DEPARTMENT OF LABOR

Employment and Training Administration

[TA-W-54,741]

Bacon Felt Company, Inc., Taunton, MA; Notice of Termination of Investigation

Pursuant to section 221 of the Trade Act of 1974, as amended, an investigation was initiated on April 19, 2004, in response to a worker petition filed by a company official on behalf of workers at Bacon Felt Company, Inc., Taunton, Massachusetts.

The petitioner has requested that the petition be withdrawn. Consequently, the investigation has been terminated.

Signed at Washington, DC, this 19th day of May, 2004.
Richard Church,
Certifying Officer, Division of Trade Adjustment Assistance.

[FR Doc. 04-12636 Filed 6-3-04; 8:45 am]

BILLING CODE 4510-30-P